DEPARTMENT OF TRANSPORTATION

Federal Aviation Administration

[Docket No. FAA-2023-1555; Summary Notice No. 2023-37]

Petition for Exemption; Summary of Petition Received; Billings Flying Service

AGENCY: Federal Aviation Administration (FAA), DOT.

ACTION: Notice of petition for exemption received.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before October 17, 2023.

ADDRESSES: Send comments identified by docket number FAA-2023-1555 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Valerie Smith, AIR-646, Federal Aviation Administration, phone 404-474-5380, email valerie.l.smith@faa.gov.

This notice is published pursuant to 14 CFR 11.85.

Issued in Los Angeles, California on September 22, 2023.
Thuan Nguyen,
Manager, Technical Writing Section.

Petition for Exemption

Docket No.: FAA-2023-1555

Petitioner: Billings Flying Service

Section(s) of 14 CFR Affected: § 21.185(b)

Description of Relief Sought: The petitioner is seeking relief from 14 CFR 21.185(b), which allows an applicant for a restricted category airworthiness certificate for an aircraft type certificated in the restricted category, that was either a surplus aircraft of the Armed Forces or previously type certificated in another category, to be entitled to an airworthiness certificate if the aircraft has been inspected by the FAA and found to be in a good state of preservation and repair and in a condition for safe operation. Specifically, the petitioner is requesting relief so that it can apply for and receive restricted category airworthiness certificates for six CH-47D helicopters that were received from the Royal Netherlands Air Force.

[FR Doc. 2023-21061 Filed 9-26-23; 8:45 am]

BILLING CODE 4910-13-P